DEPARTMENT OF ENERGY

Federal Energy Regulatory Commission

[Docket No. PL21-3-000]

Technical Conference on Greenhouse Gas Mitigation: Natural Gas Act Sections 3 and 7 Authorizations; Supplemental Notice of Technical Conference

As announced in the Notice of Technical Conference issued in this proceeding on September 16, 2021, the Federal Energy Regulatory Commission (Commission) will convene a Commission staff-led technical conference to discuss methods natural gas companies may use to mitigate the effects of direct and indirect greenhouse gas emissions resulting from Natural Gas Act sections 3 and 7 authorizations. The technical conference will be held on Friday, November 19, 2021, from approximately 9:00 a.m. to 3:30 p.m. Eastern time. The conference will be held virtually.

The agenda for this event is attached. The conference will be open for the public to attend virtually, and there is no fee for attendance. A second supplemental notice will be issued prior to the conference with the confirmed panelists. Information on this technical conference will also be posted on the Calendar of Events on the Commission's website, www.ferc.gov, prior to the event. Transcripts will be available for a fee from Ace Reporting, (202) 347-3700.

Individuals interested in participating as panelists should self-nominate by 5:00 p.m. Eastern Time on Friday, October 8, 2021, at: GHGTechConf@ferc.gov. The self-nominations should have “Panelist Self-Nomination” in the subject line and include the panelist's: Name, title, organization, mailing address, telephone number, email address, one paragraph biography, photograph, and panel selection.

Commission conferences are accessible under section 508 of the Rehabilitation Act of 1973. For accessibility accommodations, please send an email to accessibility@ferc.gov, call toll-free (866) 208-3372 (voice) or (202) 208-8659 (TTY), or send a fax to (202) 208-2106 with the required accommodations.

For more information about this technical conference, please contact GHGTechConf@ferc.gov. For information related to logistics, please contact Sarah McKinley at sarah.mckinley@ferc.gov or (202) 502-8368.

Dated: October 1, 2021.
Kimberly D. Bose,
Secretary.

[FR Doc. 2021-21947 Filed 10-6-21; 8:45 am]

BILLING CODE 6717-01-P